DEPARTMENT OF JUSTICE

Antitrust Division

Notice Pursuant to the National Cooperative Research and Production Act of 1993—SGIP 2.0, Inc.

Notice is hereby given that, on October 17, 2012, pursuant to Section 6(a) of the National Cooperative Research and Production Act of 1993, 15 U.S.C. 4301 et seq. (“the Act”), SGIP 2.0, Inc. (“SGIP 2.0”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is SGIP 2.0, Inc., c/o Gesmer Updegrove LLP, Boston, MA. The nature and scope of SGIP 2.0's standards development activities are: SGIP 2.0 is organized exclusively for charitable, religious, educational, literary, and scientific purposes, within the meaning of Section 501(c)(3) of the Internal Revenue Code of 1986, as amended (or the corresponding provision of any subsequent federal tax law), and the regulations currently or hereafter promulgated thereunder. In furtherance of such purposes, SGIP 2.0 is organized and will be operated primarily to continue the work of the unincorporated SmartGrid Interoperability Panel, by supporting the National Institute of Standards and Technology in fulfilling its responsibilities pursuant to the Energy Independence and Security Act of 2007, including but not limited to by (a) providing technical guidance and coordination to help facilitate standards development for smart grid interoperability; (b) identifying and specifying testing and certification requirements, including provision of the underlying rationale to assess achievement of interoperability using smart grid standards; (c) informing and educating smart grid industry stakeholders regarding smart grid interoperability and related benefits; (d) liaising with similar organizations in other countries to help establish global smart grid interoperability alignment; and (e) undertaking such other activities as may from time to time be appropriate to further the purposes and achieve the goals set forth above.

Patricia A. Brink,
Director of Civil Enforcement, Antitrust Division.

[FR Doc. 2012-29266 Filed 12-3-12; 8:45 am]

BILLING CODE P